DEPARTMENT OF COMMERCE

National Telecommunications and Information Administration

[Docket No. 991210330-0034-02]

RIN 0660-ZA10

Public Telecommunications Facilities Program: Closing Date

AGENCY: National Telecommunications and Information Administration (NTIA), Commerce.

ACTION: Notice of availability of funds.

SUMMARY: The National Telecommunications and Information Administration (NTIA), U.S. Department of Commerce, announces the solicitation of applications for a grant for the Pan-Pacific Education and Communications Experiments by Satellite (PEACESAT) Program. Applications for the PEACESAT Program grant will compete for funds from the Public Broadcasting, Facilities, Planning and Construction Funds account. An announcement regarding the submission of applications for the Public Telecommunications Facilities Program (PTFP) which is also funded from this account, was published in the Federal Register on December 23, 1999.

Applicants for grants for the PEACESAT Program must file their applications on or before March 29, 2000. NTIA anticipates making the grant award by September 30, 2000. NTIA shall not be liable for any proposal preparation costs.

DATES: Applications for the PEACESAT Program grant must be received on or before 5:00 p.m. on March 29, 2000. Applicants sending applications by the United States Postal Service or commercial delivery services must ensure that the carrier will be able to guarantee delivery of the application by the Closing Date and Time. NTIA will not accept mail delivery of applications posted on the Closing Date or later and received after the above deadline. However, if an application is received after the Closing Date due to (1) carrier error, when the carrier accepted the package with a guarantee for delivery by the Closing Date, or (2) significant weather delays or natural disasters, NTIA will, upon receipt of proper documentation, consider the application as having been received by the deadline. Applicants submitting applications by hand delivery are notified that, due to security procedures in the Department of Commerce, all packages must be cleared by the Department's security office. The security office is located in Room 1874, located at Entrance No. 10 on the 15th St. N.W. side of the building.

ADDRESSES: To submit completed applications, or send any other correspondence, write to: NTIA/PTFP, Room H-4625, U.S. Department of Commerce, 1401 Constitution Avenue, NW., Washington, DC 20230.

FOR FURTHER INFORMATION CONTACT: William Cooperman, Director, Public Broadcasting Division, telephone: (202) 482-5802; fax: (202) 482-2156.

SUPPLEMENTARY INFORMATION:

I. Application Forms and Requirements

Funding for the PEACESAT Program is provided pursuant to Public Law 106-113, the “Consolidated Appropriations Act, Fiscal Year 2000.” Public Law 106-113 provides that “notwithstanding any other provision of law, the Pan-Pacific Education and Communications Experiments by Satellite (PEACESAT) Program is eligible to compete for Public Broadcasting Facilities, Planning and Construction funds.” The PEACESAT Program was authorized under Public Law 100-584 (102 Stat. 2970) and also Public Law 101-555 (104 Stat. 2758) to acquire satellite communications services to provide educational, medical, and cultural needs of Pacific Basin communities. The PEACESAT Program has been operational since 1971 and has received funding from NTIA for support of the project since 1988.

Public Law 106-113 appropriated $26.5 million for this account to be awarded for Public Telecommunications Facilities Program (PTFP) grants and for PEACESAT Program grants. The solicitation notice for the PTFP Program was published in the Federal Register on December 23, 1999 (64 Fed. Reg. 72225). Applications submitted in response to this solicitation for PEACESAT applications are not subject to the requirements of the December 23, 1999 Notice and are exempt from the PTFP regulations at 15 CFR Part 2301. NTIA anticipates making a single award for approximately $450,000 for the PEACESAT Program in FY2000.

NTIA requests that each applicant for a PEACESAT Program grant supply one (1) original signed application and five (5) copies, unless doing so would present a financial hardship, in which case the applicant may submit one(1) original and two (2) copies of the application. The application form consists of the Standard Form 424 Application for Federal Assistance; Standard Form 424A Budget Information—Non-Construction Programs; Standard Form 424 B, Assurances; Standard Form CD-511 Certification; and Standard Form LLL, Disclosure of Lobbying Activities (if applicable). These requirements are subject to the Paperwork Reduction Act and have been approved by the Office of Management and Budget under control numbers 0348-0043, 0348-0044, 0348-0040 and 0348-0046.

Applicants are not required to respond to a collection of information sponsored by the Federal government, and the government may not conduct or sponsor this collection, unless it displays a currently valid OMB control number or if we fail to provide you with this notice.

Eligible applicants will include any for-profit or non-profit organization, public or private entity, other than an agency or division of the Federal government. Individuals are not eligible to apply for the PEACESAT Program funds.

Grant recipients under this program will not be required to provide matching funds toward the total project cost.

The costs allowable under this Notice are not subject to the limitation on costs contained in the December 23, 1999 Notice regarding the PTFP Program.

II. Administrative Requirements; Scope of Project and Eligible Costs; Evaluation and Selection Process

Public Law 106-113 was enacted November 29, 1999. Public Law 106-113 made funds from the Public Broadcasting, Facilities, Planning and Construction Funds account available to the PEACESAT Program. Funds appropriated to the Public Broadcasting, Facilities, Planning and Construction Funds account do not carry fiscal year limitations. A notice published on March 16, 1999 set forth the scope of the project and eligible costs, and a description of the evaluation and selection process for applications. Since funds for the Public Broadcasting, Facilities, Planning and Construction Funds account are available without limitations, the administrative requirements; scope of project and eligible costs criteria; and evaluation and selection process criteria set forth in the March 16, 1999 notice apply to the 1999 PEACESAT program and to all subsequent years. A copy of the March 16,1999 Notice is available to potential applicants from NTIA at the address listed in the Address section and is also available on the INTERNET at www.ntia.doc.gov/otiahome/peacesat/peacesat.html If, in the future, NTIA changes the administrative requirements; the scope of project and eligible costs criteria; or the evaluation and selection process criteria, a new notice will be published containing the new criteria and requirements.

III. Project Period

Any project awarded pursuant to this notice will be for a one-year period.

Authority: Pub. L. 106-113, “Consolidated Appropriations Act, Fiscal Year 2000.”

Dr. Bernadette McGuire-Rivera,
Associate Administrator, Office of Telecommunications and Information Applications.

[FR Doc. 00-4206 Filed 2-22-00; 8:45 am]

BILLING CODE 3510-60-P